DEPARTMENT OF EDUCATION

President's Board of Advisors on Historically Black Colleges and Universities

AGENCY: President's Board of Advisors on Historically Black Colleges and Universities, Office of the Secretary, U.S. Department of Education.

ACTION: Announcement of open meetings.

SUMMARY: This notice sets forth the agenda for the next two meetings of the President's Board of Advisors on Historically Black Colleges and Universities (Board) and provides information to members of the public about how to attend the meetings, request to make oral comments at the meetings, and submit written comments pertaining to the work of the Board.

DATES: On June 21, 2023, the Board will hold a virtual meeting from 11:30 a.m. to 4:30 p.m. E.D.T. The public may join the meeting virtually at https://ems8.intellor.com/login/847261. On September 27, 2023, the Board will hold a hybrid meeting from 1:00 p.m. to 5:00 p.m. E.D.T. at the Hyatt Regency Crystal City, located at 2799 Richmond Hwy, Arlington, VA 22202. The public may attend the meeting in person or join the meeting virtually at https://ems8.intellor.com/login/847262.

FOR FURTHER INFORMATION CONTACT: Sedika Franklin, Associate Director/Designated Federal Official, U.S. Department of Education, White House Initiative on Historically Black Colleges and Universities, 400 Maryland Avenue SW, Washington, DC 20202, (202) 453 5630, or by email at sedika.franklin@ed.gov.

SUPPLEMENTARY INFORMATION:

The Board's Statutory Authority and Function: The Board is established by 20 U.S.C. 1063e (the HBCUs Partners Act) and Executive Order 14041 (September 3, 2021) and is continued by Executive Order 14048 (September 30, 2021). The Board is also governed by the provisions of 5 U.S.C. chapter 10 (Federal Advisory Committees), which sets forth standards for the formation and use of advisory committees. The purpose of the Board is to advise the President, through the White House Initiative on Historically Black Colleges and Universities (Initiative), on all matters pertaining to strengthening the educational capacity of Historically Black Colleges and Universities (HBCUs).

The Board shall advise the President in the following areas: (i) improving the identity, visibility, and distinctive capabilities and overall competitiveness of HBCUs; (ii) engaging the philanthropic, business, government, military, homeland-security, and education communities in a national dialogue regarding new HBCU programs and initiatives; (iii) improving the ability of HBCUs to remain fiscally secure institutions that can assist the Nation in achieving its educational goals and in advancing the interests of all Americans; (iv) elevating the public awareness of, and fostering appreciation of, HBCUs; (v) encouraging public-private investments in HBCUs; and (vi) improving government-wide strategic planning related to HBCU competitiveness to align Federal resources and provide the context for decisions about HBCU partnerships, investments, performance goals, priorities, human capital development, and budget planning.

Meeting Agendas: The meeting agenda for both meetings will include roll call; approval of the April 5, 2023 meeting minutes (during the June 21, 2023 meeting) and approval of the June 21, 2023 meeting minutes (during the September 27, 2023 meeting); an update from the Board Chairperson; an update from U.S. Department of Education staff; an update from the Executive Director of the Initiative; a status report from each of the Board's subcommittees (Preservation and Growth, Infrastructure, and Career Pathways and Financial Support and Research); and a discussion regarding the status of the Board's first report to the President. The public comment period at both meetings will begin immediately following the conclusion of such discussions.

Access to the Meetings: An advance RSVP is not required to attend either meeting. The public may join the June 21, 2023 meeting virtually at https://ems8.intellor.com/login/847261 and may join the September 27, 2023 meeting virtually at https://ems8.intellor.com/login/847262. To join the meeting(s), please click on the appropriate link, enter your name, email address, and organization, and follow the prompts to connect to the meeting audio by computer or telephone. Members of the public may virtually join the meetings 10 minutes prior to their start time. Members of the public may attend the September 27, 2023 meeting in person at the Hyatt Regency Crystal City, located at 2799 Richmond Hwy, Arlington, VA 22202. Signs will be posted on the day of the meeting that provide the meeting room location. Those joining in person may enter the meeting room 10 minutes prior to the start time. All members of the public attending the meeting in person are required to sign in at the meeting registration desk located outside of the meeting room.

Submission of requests to make an oral comment: There will be an allotted time for public comment at both the June 21, 2023 meeting and the September 27, 2023 meeting. Members of the public may request to provide an oral comment pertaining to the work of the Board using one of the methods described below. Each commenter who makes a request will have an opportunity to speak for up to two minutes during the public comment period. All oral comments made will become part of the official record of the meeting.

Methods to request to make oral comment: The public may submit an advance request to make oral comment by sending an email to the whirsvps@ed.gov mailbox no later than June 18, 2023 for the June 21, 2023 meeting, and/or no later than September 15, 2023 for the September 27, 2023 meeting. Please do not send materials directly to Board members. Please include in the subject line of the email “Oral Comment Request.” The email must include the name(s), title, organization/affiliation, mailing address, email address, telephone number, of the person(s) requesting to speak, and a brief summary (not to exceed one page) of the principal points to be made. Those attending in person may make a request by completing a “Public Comment Registration Form” found at the meeting registration table. Those attending virtually may make a request by sending a note via the chat function to the Host and Presenters.

Submission of written public comments: Written comments must be submitted to the whirsvps@ed.gov mailbox no later than June 18, 2023 for the June 21, 2023 meeting, and/or no later than September 15, 2023 for the September 27, 2023, meeting. Please include in the subject line “Written Comments: Public Comment.” The email must include the name(s), title, organization/affiliation, mailing address, email address, and telephone number of the person(s) making the comment. Comments should be submitted as a Microsoft Word document or in a medium compatible with Microsoft Word (not a PDF file) that is attached to the email or provided in the body of the email message. Please do not send material directly to the members of the Board. Written comments will be added to the meeting summary following each meeting.

Access to Records of the Meeting: The Department will post the official report of the meeting on the Board's website, https://sites.ed.gov/whhbcu/policy/presidents-board-of-advisors-pba-on-hbcus, no later than 90 days after the meeting. Pursuant to 5 U.S.C. 1009(b), the public may also inspect the meeting materials and other Board records at 400 Maryland Avenue SW, Washington, DC, by emailing oswhi-hbcu@ed.gov or by calling (202) 453-5634 to schedule an appointment.

Reasonable Accommodations: The meeting sites are accessible to individuals with disabilities. If you will need an auxiliary aid or service to participate in the meeting (e.g., interpreting service, assistive listening device, or materials in an alternate format), notify the contact person listed in this notice at least two weeks before the meeting date. Although we will attempt to meet a request received after that date, we may not be able to make available the requested auxiliary aid or service because of insufficient time to arrange it.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Notice of the meeting is required by 5 U.S.C. chapter 10 (Federal Advisory Committees) and is intended to notify the public of an opportunity to attend the meetings.

Authority: HBCUs Partners Act, Presidential Executive Order 14041, continued by Executive Order 14048

Donna M. Harris-Aikens,
Deputy Chief of Staff for Strategy, Office of the Secretary.

[FR Doc. 2023-10716 Filed 5-18-23; 8:45 am]

BILLING CODE 4000-01-P